FEDERAL DEPOSIT INSURANCE CORPORATION

Agency Information Collection Activities: Submission for OMB Review; Comment Request (OMB No. 3064-0179)

AGENCY: Federal Deposit Insurance Corporation (FDIC).

ACTION: Notice and request for comment.

SUMMARY: The FDIC, as part of its continuing effort to reduce paperwork and respondent burden, invites the general public and other Federal agencies to take this opportunity to comment on the renewal of the existing information collection, as required by the Paperwork Reduction Act of 1995 (PRA). On April 13, 2018, the FDIC requested comment for 60 days on a proposal to renew the information collection described below. No comments were received. The FDIC hereby gives notice of its plan to submit to OMB a request to approve the renewal of this collection, and again invites comment on this renewal.

DATES: Comments must be submitted on or before August 8, 2018.

ADDRESSES: Interested parties are invited to submit written comments to the FDIC by any of the following methods:

• https://www.FDIC.gov/regulations/laws/federal.

• Email: comments@fdic.gov. Include the name and number of the collection in the subject line of the message.

• Mail: Jennifer Jones (202-898-6768), Counsel, MB-3105, Federal Deposit Insurance Corporation, 550 17th Street NW, Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, Counsel, 202-898-6768, jennjones@fdic.gov, MB-3105, Federal Deposit Insurance Corporation, 550 17th Street NW, Washington, DC 20429.

SUPPLEMENTARY INFORMATION:

On April 13, 2018, the FDIC requested comment for 60 days on a proposal to renew the information collection described below. No comments were received. The FDIC hereby gives notice of its plan to submit to OMB a request to approve the renewal of this collection, and again invites comment on this renewal.

Proposal to renew the following currently approved collection of information:

1. Title: Assessment Rate Adjustment Guidelines for Large and Highly Complex Institutions.

OMB Number: 3064-0179.

Form Number: None.

Affected Public: Large and highly complex depository institutions.

Burden Estimate:

Summary of Annual Burden
| Type of burden | Obligation to respond | Estimated number of respondents | Estimated frequency per respondent | Estimated time per response | Frequency of response | Total annual estimated burden hours
Assessment Rate Adjustment Guidelines for Large and Highly Complex Institutions | Reporting | Required to Obtain or Retain Benefits | 1 | 1 | 80.00 | On Occasion | 80
Total Hourly Burden |  |  |  |  |  |  | 80

General Description of Collection: These guidelines established a process through which large and highly complex depository institutions could request a deposit insurance assessment rate adjustment from the FDIC.

There is no change in the method or substance of the collection. The overall reduction in burden hours is the result of economic fluctuation. In particular, the number of respondents has decreased while the hours per response and frequency of responses have remained the same.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on July 2, 2018.
Federal Deposit Insurance Corporation.
Robert E. Feldman,
Executive Secretary.

[FR Doc. 2018-14540 Filed 7-6-18; 8:45 am]

BILLING CODE 6714-01-P